DEPARTMENT OF HEALTH AND HUMAN SERVICES

Administration for Children and Families

Submission for OMB Review; Comment Request

Title: Application for the Emergency Form for CSBG/ARRA Expenditure Report.

OMB No.: 0970-0369.

Description: On February 17 2009, President Obama signed into law the American Recovery and Reinvestment Act of 2009 (Recovery Act). The Recovery Act provided for $1 billion in additional funds to the Community Services Block Grant (CSBG) program for Federal Fiscal Year 2009; however the grant period runs through FY 2010. As with regularly appropriated CSBG funds, Recovery Act funds may be used for the reduction of poverty, the revitalization of low-income communities, and the empowerment of low-income families and individuals in rural and urban areas to become fully self-sufficient.

To be in compliance with Recovery Act (Pub. L. 111-5) Section 1512(c)(1) through (B) a backup sheet was created to identify the various activities that make up the total Federal share of outlays reported on the 269A Report line 10(a). The CSBG/ARRA Fund provides resources to States, Territories, and Tribes to support work and families during this difficult economic period. We plan to issue a backup sheet for the 269A Report with instructions for jurisdictions to complete; which would provide detail information to support line 10(a) of the aforementioned document.

Failure to collect this data would compromise ACF's ability to monitor expenditure patterns by the grantees.

Documentation maintenance on financial reporting for the CSBG Fund is governed by 45 CFR 96.30.

Respondents: State, Territory, and Tribal agencies administering the Community Service Block Grant(CSBG) Program Fund.

Annual Burden Estimates
Instrument | Number of respondents | Number of responses per respondent | Average burden hours per response | Total burden hours
CSBG/ARRA Plan | 103 | 4 | 4 | 1,648

Estimated Total Annual Burden Hours: 1,648

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: December 17, 2009.
Robert Sargis,
Reports Clearance Officer.

[FR Doc. E9-30369 Filed 12-21-09; 8:45 am]

BILLING CODE 4184-01-P